DEPARTMENT OF ENERGY

Federal Energy Regulatory Commission

Combined Notice of Filings #1

Take notice that the Commission received the following electric corporate filings:

Docket Numbers: EC16-93-001; EC16-94-001.

Applicants: Atlas Power Finance, LLC, Dynegy Inc., Energy Capital Partners III, LLC, GDF Suez Energy North America, Inc.

Description: Compliance Filing of Atlas Power Finance, LLC, et al.

Filed Date: 12/27/16.

Accession Number: 20161227-5158.

Comments Due: 5 p.m. ET 1/10/17.

Take notice that the Commission received the following exempt wholesale generator filings:

Docket Numbers: EG17-36-000.

Applicants: Innovative Solar 42, LLC.

Description: Notice of Self-Certification of Exempt Wholesale Generator Status of Innovative Solar 42, LLC.

Filed Date: 12/23/16.

Accession Number: 20161223-5229.

Comments Due: 5 p.m. ET 1/13/17.

Take notice that the Commission received the following electric rate filings:

Docket Numbers: ER10-1836-009; ER10-1841-009; ER10-1843-009; ER10-1844-009; ER10-1845-009; ER10-1897-009 ER10-1905-009; ER10-1918-009; ER10-1925-009; ER10-1927-009; ER10-1950-009; ER10-1964-009 ER10-1965-009; ER10-1970-009; ER10-1971-033; ER10-1972-009; ER10-1983-009; ER10-1984-009 ER10-1991-009; ER10-2005-009; ER10-2006-010; ER10-2078-010; ER11-26-009; ER11-4462-024 ER12-1660-009; ER12-631-011; ER13-2458-004; ER13-2461-004.

Applicants: Ashtabula Wind, LLC, Ashtabula Wind II, LLC, Ashtabula Wind III, LLC, Butler Ridge Wind Energy Center, LLC, Crystal Lake Wind, LLC, Crystal Lake Wind II, LLC, Crystal Lake Wind III, LLC, FPL Energy Hancock County Wind, LLC, FPL Energy Mower County, LLC, FPL Energy North Dakota Wind II, LLC, FPL Energy Oliver Wind I, LLC, FPL Energy Oliver Wind II, LLC, Garden Wind, LLC, Hawkeye Power Partners, LLC, Lake Benton Power Partners II, LLC, Langdon Wind, LLC, NEPM II, LLC, NextEra Energy Duane Arnold, LLC, NextEra Energy Point Beach, LLC, NextEra Energy Power Marketing, LLC, Osceola Windpower, LLC, Osceola Windpower II, LLC, Pheasant Run Wind, LLC, Story Wind, LLC, Tuscola Bay Wind, LLC, Tuscola Wind II, LLC, White Oak Energy LLC, Windpower Partners 1993, LLC.

Description: Notification of Non-material Change in Status of the NextEra Resource Entities.

Filed Date: 12/23/16.

Accession Number: 20161223-5303.

Comments Due: 5 p.m. ET 1/13/17.

Docket Numbers: ER12-569-014; ER10-1849-013; ER10-1887-013 ER10-1920-015; ER10-1928-015; ER10-1952-013; ER10-1961-013; ER10-1971-032; ER10-2720-015 ER11-2037-013; ER11-4428-015; ER11-4462-023; ER12-1228-015; ER12-1880-014; ER12-2227-013; ER12-895-013; ER13-2474-009; ER13-712-015; ER14-2707-010; ER14-2708-011; ER14-2709-010; ER14-2710-010; ER15-1925-007; ER15-2676-006; ER15-30-008; ER15-58-008; ER16-1440-004; ER16-1672-004; ER16-2190-002; ER16-2453-003.

Applicants: Blackwell Wind, LLC, Brady Interconnection, LLC, Brady Wind, LLC, Breckinridge Wind Project, LLC, Cedar Bluff Wind, LLC, Chaves County Solar, LLC, Cimarron Wind Energy, LLC, Elk City Wind, LLC, Elk City II Wind, LLC, Ensign Wind, LLC, FPL Energy Cowboy Wind, LLC, FPL Energy Oklahoma Wind, LLC, FPL Energy Sooner Wind, LLC, Gray County Wind Energy, LLC, High Majestic Wind Energy Center, LLC, High Majestic Wind II, LLC, Mammoth Plains Wind Project, LLC, Minco Wind Interconnection Services, LLC, Minco Wind, LLC, Minco Wind II, LLC, Minco Wind III, LLC, Palo Duro Wind Interconnection Services, LLC, Palo Duro Wind Energy, LLC, Roswell Solar, LLC, Seiling Wind Interconnection Services, LLC, Seiling Wind, LLC, Seiling Wind II, LLC, Steele Flats Wind Project, LLC, NEPM II, LLC, NextEra Energy Power Marketing, LLC.

Description: Notification of Non-material Change in Status of the NextEra Resources Entities.

Filed Date: 12/23/16.

Accession Number: 20161223-5352.

Comments Due: 5 p.m. ET 1/13/17.

Docket Numbers: ER17-681-000.

Applicants: Enel Trading North America, Inc.

Description: Baseline eTariff Filing: Enel Baseline Filing to be effective1/27/2017.

Filed Date: 12/27/16.

Accession Number: 20161227-5058.

Comments Due: 5 p.m. ET 1/17/17.

Docket Numbers: ER17-682-000.

Applicants: New England Power Pool Participants Committee.

Description: § 205(d) Rate Filing: Jan 2017 Membership Filing to be effective 12/1/2016.

Filed Date: 12/27/16.

Accession Number: 20161227-5059.

Comments Due: 5 p.m. ET 1/17/17.

Docket Numbers: ER17-683-000.

Applicants: NorthWestern Corporation.

Description: § 205(d) Rate Filing: SA 802—Agreement with Montana DOT (Rouse—Oak/Story Mill Project) to be effective 2/27/2017.

Filed Date: 12/27/16.

Accession Number: 20161227-5060.

Comments Due: 5 p.m. ET 1/17/17.

Docket Numbers: ER17-684-000.

Applicants: Arizona Public Service Company.

Description: Notice of Cancellation of Arizona Public Service Company—Rate Schedule No.46.

Filed Date: 12/23/16.

Accession Number: 20161223-5351.

Comments Due: 5 p.m. ET 1/13/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 28, 2016.
Nathaniel J. Davis, Sr.,
Deputy Secretary.

[FR Doc. 2016-31880 Filed 1-3-17; 8:45 am]

BILLING CODE 6717-01-P